DEPARTMENT OF THE INTERIOR

Fish and Wildlife Service

50 CFR Part 17

Endangered and Threatened Wildlife and Plants; 90-Day Finding on a Petition To List the Gentry Indigo Bush, Dalea tentaculoides, as an Endangered Species

AGENCY: Fish and Wildlife Service, Interior.

ACTION: Notice of reopening of public comment period.

SUMMARY: We, the U.S. Fish and Wildlife Service (Service), announce the reopening of the public comment period for the status review initiated by the 90-day finding on a petition to list Gentry indigo bush (Dalea tentaculoides). The original public comment period closed on April 4, 2005. This action will allow all interested parties an opportunity to submit information on the status of the species under the Endangered Species Act of 1973, as amended (Act).

DATES: Comments must be submitted directly to the Service (see ADDRESSES section) on or before August 4, 2005. Any comments received after the closing date may not be considered in the 12-month finding for this petition.

ADDRESSES: If you wish to comment, you may submit your comments and materials by any one of several methods:

1. You may submit written comments and information by mail or hand-delivery to Steve Spangle, Field Supervisor, Arizona Ecological Services Field Office, 2321 W. Royal Palm Road, Suite 103, Phoenix, Arizona 85021.

2. Written comments may be sent by facsimile to (602) 242-2513.

3. You may send your comments by electronic mail (e-mail) to Gentrycomments@fws.gov.

All comments and materials received, as well as supporting documentation used in preparation of the 90-day finding, will be available for public inspection, by appointment, during normal business hours at our Arizona Ecological Services Field Office at the above address.

FOR FURTHER INFORMATION CONTACT: Mima Falk, Arizona Ecological Services, Tucson Suboffice, 201 N. Bonita Ave., Tucson, Arizona 85745 (520) 670-6150 ext. 225).

SUPPLEMENTARY INFORMATION:

Background

On January 7, 2002, we received a petition dated January 2, 2002, requesting that we list the Gentry indigo bush as an endangered species with critical habitat. On January 25, 2005, we made our 90-day administrative finding on the petition to list the Gentry indigo bush under the Act in which we found that the petition presented substantial information indicating that listing the Gentry indigo bush may be warranted (70 FR 5401; February 2, 2005). Therefore, we initiated a status review to determine if listing the species is warranted. The review comment period closed on April 4, 2005.

Pursuant to 50 CFR 424.16(c)(2), we may extend or reopen a comment period upon finding that there is good cause to do so. The original comment period closed before the Gentry indigo bush flowering season. One of the primary characters for this species' identification can only be seen on the flower. We are reopening the comment period in order to accept additional status and survey information obtained after April 4, 2005, that we believe is significant and may affect our determination of the status of the species, and to allow appropriate public comment on these materials. These survey materials include trip reports and an interim report on surveys in Mexico received after the comment period closed, as well as status survey reports for Sycamore Canyon and the Northern Altar Valley which we anticipate receiving in early July. We deem these considerations as sufficient cause to reopen the comment period.

Public Comments Solicited

Our practice is to make comments, including names and home addresses of respondents, available for public review during regular business hours. Individual respondents may request that we withhold their home address, which we will honor to the extent allowable by law. If you wish us to withhold your name or address, you must state this request prominently at the beginning of your comments. However, we will not consider anonymous comments. To the extent consistent with applicable law, we will make all submissions from organizations or businesses, and from individuals identifying themselves as representatives or officials of organizations or businesses, available for public inspection in their entirety.

Authority

The authority for this action is the Endangered Species Act of 1973 (16 U.S.C. 1531 et seq.).

Dated: July 15, 2005.
Marshall P. Jones Jr.,
Acting Director, Fish and Wildlife Service.

[FR Doc. 05-14556 Filed 7-22-05; 8:45 am]

BILLING CODE 4310-55-P